FEDERAL COMMUNICATIONS COMMISSION

47 CFR Part 90

[WT Docket No. 99-87; RM-9332; FCC 03-34]

Implementation of Sections 309(j) and 337 of the Communications Act of 1934 as Amended and Promotion of Spectrum Efficient Technologies on Certain Part 90 Frequencies

AGENCY: Federal Communications Commission.

ACTION: Final rule; correcting amendments.

SUMMARY: This document contains corrections to the final regulations, which were published July 17, 2003, (68 FR 42296). The Wireless Telecommunications Bureau published final rules in this document revising Commission rules in order to promote spectrum efficient technologies on certain frequencies. This document corrects typographical errors, as detailed below, that the Commission found in the original document.

DATES: Effective March 30, 2004.

FOR FURTHER INFORMATION CONTACT: Brian Marenco, Associate Division Chief, Public Safety and Critical Infrastructure Division at (202) 418—0838.

SUPPLEMENTARY INFORMATION:

Background

The final regulations that are the subject of these corrections amended the Commission's rules to include a long-term schedule for the migration of Private Land Mobile Radio (PLMR) systems, using frequencies in the 150-174 MHz and 421-512 MHz bands, to narrowband technology.

Need for Correction

As published, the final regulations contain errors which need to be clarified. Therefore, in the FR Doc 03-18054 published in the Federal Register on July 17, 2003, (68 FR 42296) make the following corrections.

List of Subjects in 47 CFR Part 90

Communications equipment, Radio, Reporting and recordkeeping requirements.

Accordingly, 47 CFR part 90 is corrected by making the following correcting amendments.

PART 90—PRIVATE LAND MOBILE RADIO SERVICES

1. The authority citation for part 90 continues to read as follows:

Authority: Sections 4(i), 11, 303(g), 303(r) and 332(c)(7) of the Communications Act of 1934, as amended, 47 U.S.C. 154(i), 161, 303(g), 303(r), 332(c)(7).

2. In § 90.20, paragraph (c)(3) is amended by revising the entry for “42.40” to read as follows:

§ 90.20 Public Safety Pool.

* * * * *

(c) * * *

(3) * * *

Public Safety Pool Frequency Table
Frequency or band | Class of station(s) | Limitations | Coordinator
* * * * * * *
42.40 | ......do | 2, 3, 16. | PP
* * * * * * *

Federal Communications Commission.
Marlene H. Dortch,
Secretary.

[FR Doc. 04-6947 Filed 3-29-04; 8:45 am]

BILLING CODE 6712-01-P